DEPARTMENT OF ENERGY

Federal Energy Regulatory Commission

[Project No. 2743-079]

Kodiak Electric Association, Inc.; Notice of Application Accepted for Filing, Ready for Environmental Analysis, Soliciting Comments, Motions To Intervene, Protests, Recommendations, Terms and Conditions, and Fishway Prescriptions

Take notice that the following hydroelectric application has been filed with the Commission and is available for public inspection:

a. Type of Application: Amendment of License.

b. Project No.: 2743-079.

c. Date Filed: May 26, 2016.

d. Applicant: Kodiak Electric Association, Inc.

e. Name of Project: Terror Lake Hydroelectric Project.

f. Location: The project is located on the Terror and Kizhuyak Rivers in Kodiak, Alaska. The project occupies federal lands administered by the U.S. Fish and Wildlife Service, Bureau of Land Management, and the U.S. Coast Guard.

g. Filed Pursuant to: Federal Power Act, 16 U.S.C. 791a-825r.

h. Applicant Contact: Ms. Jennifer Richcreek, Kodiak Electric Association, Inc., P.O. Box 787, Kodiak, Alaska 99615-0787, (907) 654-7667.

i. FERC Contact: Dr. Jennifer Ambler (202) 502-8586 or jennifer.ambler@ferc.gov.

j. Deadline for filing motions to intervene and protests, comments, recommendations, terms and conditions, and fishway prescriptions is 60 days from the issuance date of this notice by the Commission; reply comments are due 105 days from the issuance date of this notice by the Commission. The Commission strongly encourages electronic filing. Please file any motion to intervene, protest, comments, and/or recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2743-079.

k. Description of Request: The applicant proposes to construct two new diversion dams, each approximately 30 feet high and 250 feet wide, on eastern and western tributary branches of the West Fork of Hidden Basin Creek. Surface water from the diversion dam on the eastern tributary would flow through a half-mile-long, 5-foot-diameter underground pipe to the diversion dam on the western tributary. From there, the combined flow would travel by gravity through a 1.2-mile-long, 12-foot-diameter tunnel through the mountainous uplands of Kodiak Island to the Terror Lake reservoir. The applicant also proposes to construct a 4-mile-long spur road off of an existing road to provide access for constructing and maintaining the new diversions. The proposal would not change the authorized installed capacity of the project; however, it is expected to increase the average annual generation by 33,000 megawatt-hours. An additional 160 acres of land would be added to the project boundary. Most of the new facilities would be constructed on lands owned by the State of Alaska and on federal land already occupied by the project; however, a portion of the 1.2-mile-long tunnel would cross an additional 2 acres of federal land administered by the Kodiak National Wildlife Refuge outside of the project boundary.

l. Locations of the Application: A copy of the application is available for inspection and reproduction at the Commission's Public Reference Room, located at 888 First Street NE., Room 2A, Washington, DC 20426, or by calling (202) 502-8371. This filing may also be viewed on the Commission's Web site at http://www.ferc.gov/docs-filing/efiling.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: All filings must (1) bear in all capital letters the title “COMMENTS”, “PROTEST”, “MOTION TO INTERVENE”, “TERMS AND CONDITIONS” or “FISHWAY PRESCRIPTIONS” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the amendment. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: June 24, 2016.
Nathaniel J. Davis, Sr.,
Deputy Secretary.

[FR Doc. 2016-15562 Filed 6-29-16; 8:45 am]

BILLING CODE 6717-01-P